DEPARTMENT OF TRANSPORTATION

Coast Guard

33 CFR Part 117

[CGD11-01-006]

Drawbridge Operation Regulations; Cerritos Channel, Long Beach, CA

AGENCY: Coast Guard, DOT.

ACTION: Notice of temporary deviation from regulations; request for comments.

SUMMARY: The Commander, Eleventh Coast Guard District has issued a temporary deviation from the regulation governing the operation of the Henry Ford Avenue railroad drawbridge , mile 4.8 across the Cerritos Channel at Long Beach, California. This deviation will test a change to the drawbridge operation to determine whether a permanent change is needed. The deviation allows the bridge to be maintained in the closed to navigation position and open fully and completely when requested for the passage of waterway traffic. This deviation is for the purpose of testing the “best fit” operation of the bridge, to reduce wear-and-tear on the operating machinery of the bridge, while continuing to meet the reasonable needs of navigation.

DATES: This deviation is effective from 12:01 a.m. on May 2, 2001, until 11:59 p.m. July 2, 2001. Comments must be received July 17, 2001.

ADDRESSES: Comments and related material may be mailed or hand-delivered to: Commander (oan-2), eleventh Coast Guard District, Bldg. 50-6, Coast Guard Island, Alameda, CA 94501-5100. The Commander (oan-2), Eleventh Coast Guard District, maintains the public docket for this deviation. Comments and material received from the public, as well as documents indicate in this notice as being available in the docket, are part of the docket [CGD11-01-06] and are available for inspection or copying at the same address between 8 a.m. and 4 p.m., Monday through Friday, except Federal holidays.

FOR FURTHER INFORMATION CONTACT: Mr. David H. Sulouff, Chief, Bridge Section; Eleventh Coast Guard District, Bldg 50-6 Coast Guard Island, Alameda, CA 94501-5100, telephone (510) 437-3516.

SUPPLEMENTARY INFORMATION:

Request for Comments

The Coast Guard encourages all interested persons to comment on this test schedule by submitting written data, views, or arguments. Persons submitting comments should identify this deviation, the specific section of the deviation to which each comment applies, and the reason for each comment. All comments and attachments must be submitted in an unbound format, no larger than 8½ x 11 inches, suitable for copying. Persons wanting acknowledgement of receipt of comments should enclose a stamped, self-addressed postcard or envelope. All comments and other materials referenced in this notice will be available for inspection and copying at the Coast Guard location under ADDRESSES, between 8 a.m. and 4 p.m., Monday through Friday, except Federal holidays. The Coast Guard will consider all comments and material received during the comment period.

Public Hearing

The Coast Guard plans no public hearing. Interested persons may request a public hearing by writing to the Coast Guard at the address under ADDRESSES. The request should include the reasons why a hearing should be beneficial. If it determines that the opportunity for oral presentations will be beneficial, the Coast Guard will hold a public hearing at a time and place to be announced by a later notice in the Federal Register.

Discussion of Deviation

The Henry Ford bridge, mile 4.8 across the Cerritos Channel, Long Beach, California, provides 7.3 feet above mean high water when closed. Vessels that can pass under the bridge without an opening may do so at all times. This deviation has been coordinated in advance with, the U.S. Coast Guard Marine Safety Office Los Angeles/Long Beach, U.S. Army Corps of Engineers Los Angeles District, fire departments for the cities of Los Angeles and Long Beach, the ports of Los Angeles and Long Beach, Alameda Corridor, commercial operators and marinas on the waterway.

The existing drawbridge regulation requires the drawspan to be maintained in the open-to-navigation position and lowered only for passage of land traffic. This deviation from the existing regulation will allow the bridge to be maintained in the closed-to-navigation position and operated in compliance with the General Drawbridge Operation Regulations under 33 CFR 117, subpart A. During the 60-day test period, the bridge will open fully and completely when requested for the passage of waterway traffic. This deviation is for the purpose of testing the “best fit” operation of the bridge, to reduce wear-and-tear on the operating machinery of the bridge, while continuing to meet the reasonable needs of navigation. At the conclusion of the 60-day test period, the drawspan will resume operation in compliance with 33 CFR, 117.147(b).

Dated: March 21, 2001.
E.R. Riutta,
U.S. Coast Guard, Commander, Eleventh Coast Guard District.

[FR Doc. 01-8015 Filed 3-30-01; 8:45 am]

BILLING CODE 4910-15-U